DEPARTMENT OF AGRICULTURE

Forest Service

Notice of New Fee Site Federal Lands Recreation Enhancement Act

AGENCY: Flathead National Forest, USDA Forest Service.

ACTION: Notice of new fee site Anna Creek Cabin.

SUMMARY: The Flathead National Forest is proposing to charge a $75 fee for the overnight rental for the Anna Creek Cabin. This site has not been available for recreation use prior to this date. Rentals of other cabins on the Flathead National Forest have shown that people appreciate and enjoy the availability of historic rental lookouts and cabins. Funds from the rentals will be used for the operations and maintenance of the Anna Creek Cabin. This fee is only proposed and will be determined upon further analysis and public comment.

DATES: Send any comments about this fee proposal by March 18, 2016 so comments can be compiled, analyzed and shared with the Western Montana Recreation Resource Advisory Committee. Anna Creek Cabin will become available for rent no earlier than six months after publication of this notice.

ADDRESSES: Chip Weber, Forest Supervisor, Flathead National Forest, 650 Wolfpack Way, Kalispell, MT 59901 or Email to cweber@fs.fed.us.

FOR FURTHER INFORMATION CONTACT: Chris Prew, Recreation Staff, Hungry Horse Ranger District at 406-387-3800 or chrisprew@fs.fed.us;

SUPPLEMENTARY INFORMATION: The Federal Recreation Lands Enhancement Act (Title VII, Pub. L. 108-447) directed the Secretary of Agriculture to publish a six month advance notice in the Federal Register whenever new recreation fee areas are established.

This new fee will be reviewed by the Western Montana Recreation Resource Advisory Committee prior to a final decision and implementation.

The Flathead National Forest currently has fourteen other cabin rentals; however, this will be the first rental opportunity on Hungry Horse Reservoir, a popular recreation destination. These rentals are often fully booked throughout their rental season. A business analysis of the Anna Creek Cabin has shown that people desire having this sort of recreation experience on the Flathead National Forest, as well as surrounding Forests. A market analysis indicates that the $75/per night fee is both reasonable and acceptable for this sort of unique recreation experience.

Once approved this rental opportunity will be available through the National Recreation Reservation Service, at www.recreation.gov or by calling 1-877-444-6777. The National Recreation Reservation Service charges a $9 fee for reservations.

Dated: January 21, 2016.
Chip Weber,
Flathead National Forest Supervisor.

[FR Doc. 2016-01733 Filed 1-29-16; 8:45 am]

BILLING CODE 3411-15-P